DEPARTMENT OF THE INTERIOR

Minerals Management Service

[Docket No. MMS-2009-OMM-0015]

MMS Information Collection Activity: 1010-0051, Oil and Gas Production Measurement, Extension of a Collection; Comment Request

AGENCY: Minerals Management Service (MMS), Interior.

ACTION: Notice of extension of an information collection (1010-0051).

SUMMARY: To comply with the Paperwork Reduction Act of 1995 (PRA), MMS is inviting comments on a collection of information that we will submit to the Office of Management and Budget (OMB) for review and approval. The information collection request (ICR) concerns the paperwork requirements in the regulations under 30 CFR 250, Subpart L, Oil and Gas Production Measurement.

DATES: Submit written comments by January 4, 2010.

FOR FURTHER INFORMATION CONTACT: Cheryl Blundon, Regulations and Standards Branch at (703) 787-1607. You may also contact Cheryl Blundon to obtain a copy, at no cost, of the regulation that requires the subject collection of information.

ADDRESSES: You may submit comments by either of the following methods listed below.

• Electronically: go to http://www.regulations.gov. In the entry titled “Enter Keyword or ID,” enter docket ID MMS-2009-OMM-0015 then click search. Under the tab “View by Relevance” you can submit public comments and view supporting and related materials available for this collection of information. The MMS will post all comments.

• Mail or hand-carry comments to the Department of the Interior; Minerals Management Service; Attention: Cheryl Blundon; 381 Elden Street, MS-4024; Herndon, Virginia 20170-4817. Please reference Information Collection 1010-0051 in your subject line and mark your message for return receipt. Include your name and return address in your message text.

SUPPLEMENTARY INFORMATION:

Title: 30 CFR Part 250, Subpart L, Oil and Gas Production Measurement.

OMB Control Number: 1010-0051.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. The Federal Oil and Gas Royalty Management Act of 1982 (30 U.S.C. 1701, et seq.) at section 1712(b)(2) prescribes that an operator will “develop and comply with such minimum site security measures as the Secretary deems appropriate, to protect oil or gas produced or stored on a lease site or on the Outer Continental Shelf from theft.” Regulations at 30 CFR part 250, subpart L, implement these statutory requirements. We use the information to ensure that the volumes of hydrocarbons produced are measured accurately, and royalties are paid on the proper volumes. Specifically, MMS needs the information to:

• Determine if measurement equipment is properly installed, provides accurate measurement of production on which royalty is due, and is operating properly;

• Obtain rates of production data in allocating the volumes of production measured at royalty sales meters, which can be examined during field inspections;

• Ascertain if all removals of oil and condensate from the lease are reported;

• Determine the amount of oil that was shipped when measurements are taken by gauging the tanks rather than being measured by a meter;

• Ensure that the sales location is secure and production cannot be removed without the volumes being recorded; and

• Review proving reports to verify that data on run tickets are calculated and reported accurately.

The MMS will protect information from respondents considered proprietary under the Freedom of Information Act (5 U.S.C. 552) and its implementing regulations (43 CFR part 2) and under regulations at 30 CFR 250.197, Data and information to be made available to the public or for limited inspection and 30 CFR part 252, OCS Oil and Gas Information Program. No items of a sensitive nature are collected. Responses are mandatory.

Frequency: Varies by section, but primarily monthly, or on occasion.

Description of Respondents: Respondents comprise Federal oil, gas and sulphur lessees and/or operators.

Estimated Reporting and Recordkeeping Hour Burden: The currently approved annual reporting burden for this collection is 8,533 hours. The following chart details the individual components and respective hour burden estimates of this ICR. In calculating the burdens, we assumed that respondents perform certain requirements in the normal course of their activities. We consider these to be usual and customary and took that into account in estimating the burden.

Citation 30 CFR 250 Subpart L | Reporting or recordkeeping requirement | Hour burden non-hour cost burden
Liquid Hydrocarbon Measurement
1202(a)(1), (b)(1); 1203(b)(1); 1204(a)(1) | Submit application for liquid hydrocarbon or gas measurement procedures or changes; or for commingling of production or changes | 11 applications. $1,271 simple fee. $3,760 complex fee.
1202(a)(4) | Copy and send pipeline (retrograde) condensate volumes upon request | 45 minutes.
1202(c)(1), (2); 1202(e)(4); 1202(h)(1), (2), (3), (4); 1202(i)(1)(iv), (2)(iii); 1202(j) | Record observed data, correction factors and net standard volume on royalty meter and tank run tickets Record master meter calibration runs. Record mechanical-displacement prover, master meter, or tank prover proof runs Record liquid hydrocarbon royalty meter malfunction and repair or adjustment on proving report; record unregistered production on run ticket List Cpl and Ctl factors on run tickets | Respondents record these items as part of normal business records and practices to verify accuracy of production measured for sale purposes.
1202(c)(4)* | Copy and send all liquid hydrocarbon run tickets monthly | 1 minute.
1202(d)(4); 1204(b)(1) | Request approval for proving on a schedule other than monthly; request approval for well testing on a schedule other than every 60 days | 1 hr for each.
1202(d)(5)* | Copy and submit liquid hydrocarbon royalty meter proving reports monthly and request waiver as needed | 2 minutes.
1202(f)(2)* | Copy and submit mechanical-displacement prover and tank prover calibration reports | 10 minutes.
1202(l)(2)* | Copy and submit royalty tank calibration charts before using for royalty measurement | 15 minutes.
1202(l)(3)* | Copy and submit inventory tank calibration charts upon request; retain charts for as long as tanks are in use | 15 minutes. 5 minutes.
Gas Measurement
1203(b)(6), (8), (9)* | Copy and submit gas quality and volume statements monthly or as requested (most will be routine; few will take longer) | 2 minutes. 30 minutes.
1203(c)(4)* | Copy and submit gas meter calibration reports upon request; retain for 2 years | 5 minutes. 1 minute.
1203(e)(1)* | Copy and submit gas processing plant records upon request | 30 minutes.
1203(f)(5) | Copy and submit measuring records of gas lost or used on lease upon request | 30 minutes.
Surface Commingling
1204(a)(2) | Provide state production volumetric and/or fractional analysis data upon request | 1.
1205(a)(2) | Post signs at royalty or inventory tank used in royalty determination process | 1.
1205(a)(4) | Report security problems (telephone) | 15 minutes.
Miscellaneous and Recordkeeping
1200 thru 1205 | General departure and alternative compliance requests not specifically covered elsewhere in subpart L | 1.
1202(e)(6) | Retain master meter calibration reports for 2 years | 1 minute.
1202(k)(5) | Retain liquid hydrocarbon allocation meter proving reports for 2 years | 1 minute.
1203(f) | Document and retain measurement records on gas lost or used on lease for 2 years at field location and minimum 7 years at location of respondent's choice | 1 minute.
1204(b)(3) | Retain well test data for 2 years | 2 minutes.
1205(b)(3), (4) | Retain seal number lists for 2 years | 2 minutes.
* Respondents gather this information as part of their normal business practices. MMS only requires copies of readily available documents. There is no burden for testing, meter reading, etc.

Estimated Reporting and Recordkeeping Non-Hour Cost Burden: The currently approved non-hour cost burden for this information collection is a total of $1,154,700. This cost burden is for filing fees associated with submitting requests for approval of simple applications (applications to temporarily reroute production (for a duration not to exceed 6 months); production tests prior to pipeline construction; departures related to meter proving, well testing, or sampling frequency ($1,271 per application) or to submit requests for approval of complex applications (creation of new facility measurement points (FMPs); association of leases or units with existing FMPs; inclusion of production from additional structures; meter updates which add buyback gas meters or pigging meters; other applications which request deviations from the approved allocation procedures ($3,760 per application).

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * * ”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour paperwork cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: October 27, 2009.
E.P. Danenberger,
Chief, Office of Offshore Regulatory Programs.

[FR Doc. E9-26366 Filed 11-2-09; 8:45 am]

BILLING CODE 4310-MR-P